DEPARTMENT OF COMMERCE

International Trade Administration

[C-570-971]

Multilayered Wood Flooring From the People's Republic of China: Final Results and Partial Rescission of Countervailing Duty Administrative Review; 2011

AGENCY: Enforcement and Compliance, International Trade Administration, Department of Commerce.

SUMMARY: The Department of Commerce (the Department) conducted an administrative review of the countervailing duty order on multilayered wood flooring (wood flooring) from the People's Republic of China (PRC).¹ On January 27, 2014, the Department published the Preliminary Results for this administrative review.² The period of review (POR) is April 6, 2011, through December 31, 2011. This review covered multiple exporters/producers, two of which were individually reviewed as mandatory respondents, with another being individually reviewed as a voluntary respondent. The Department finds that the mandatory respondents, Armstrong Wood Products (Kunshan) Co., Ltd. (also known as, “Armstrong Wood Products Kunshan Co., Ltd.”) (Armstrong) and The Lizhong Wood Industry Limited Company of Shanghai (also known as, “Shanghai Lizhong Wood Products Co., Ltd.”) (Lizhong), as well as voluntary respondent, Fine Furniture (Shanghai) Limited (Fine Furniture), received countervailable subsidies during the POR. We are applying rates to the other firms subject to this review based on the countervailing duty rates calculated for the respondents individually examined. The Department also rescinds the review of one company, Changzhou Hawd Flooring Co., Ltd., that timely certified that it had no shipments of subject merchandise to the United States during the POR.

¹ See Multilayered Wood Flooring From the People's Republic of China: Countervailing Duty Order, 76 FR 76693 (December 8, 2011); see also Multilayered Wood Flooring From the People's Republic of China: Amended Antidumping and Countervailing Duty Orders, 77 FR 5484 (February 3, 2012) (Amended Order).

² See Multilayered Wood Flooring From the People's Republic of China: Preliminary Results of Countervailing Duty Administrative Review; 2011, 79 FR 4330 (January 27, 2014) (Preliminary Results).

DATES: Effective Date: August 4, 2014.

FOR FURTHER INFORMATION CONTACT: Joshua Morris or Austin Redington, AD/CVD Operations, Office I, Enforcement and Compliance, International Trade Administration, U.S. Department of Commerce, 14th Street and Constitution Avenue NW., Washington, DC 20230; telephone: (202) 482-1779 or (202) 482-1664, respectively.

Scope of the Order

Multilayered wood flooring is composed of an assembly of two or more layers or plies of wood veneer(s) ³ in combination with a core. Imports of the subject merchandise are provided for under the following subheadings of the Harmonized Tariff Schedule of the United States (HTSUS): 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; and 4418.72.9500.

³ A “veneer” is a thin slice of wood, rotary cut, sliced or sawed from a log, bolt or flitch. Veneer is referred to as a ply when assembled.

Although the HTSUS subheadings are provided for convenience and customs purposes, the written description remains dispositive.

A full description of the scope of the Amended Order is contained in the memorandum from Christian Marsh, Deputy Assistant Secretary for Antidumping and Countervailing Duty Operations to Paul Piquado, Assistant Secretary for Enforcement and Compliance, “Decision Memorandum for Final Results of Countervailing Duty Administrative Review: Multilayered Wood Flooring from the People's Republic of China,” dated concurrently with this notice (Issues and Decision Memorandum), which is hereby adopted by this notice.

The Issues and Decision Memorandum is a public document and is on file electronically via Enforcement and Compliance's Antidumping and Countervailing Duty Centralized Electronic Service System (IA ACCESS). IA ACCESS is available to registered users at http://iaaccess.trade.gov and in the Central Records Unit, Room 7046 of the main Department building. In addition, a complete version of the Issues and Decision Memorandum can be accessed directly on the internet at http://trade.gov/enforcement/. The signed Issues and Decision Memorandum and the electronic versions of the Issues and Decision Memorandum are identical in content.

Partial Rescission of Administrative Review

On March 28, 2013, we received a timely filed no shipment certification from Changzhou Hawd Flooring Co., Ltd. Because there is no evidence on the record to indicate that this company had sales of subject merchandise during the POR, and no party objected to our intent to rescind as stated in the Preliminary Results, pursuant to 19 CFR 351.213(d)(3), we are rescinding the review with respect to Changzhou Hawd Flooring Co., Ltd.

Methodology

The Department conducted this review in accordance with section 751(a)(1)(A) of the Tariff Act of 1930, as amended (the Act). A full description of the methodology underlying our conclusions is presented in the Issues and Decision Memorandum.

Final Results of the Review

In accordance with 19 CFR 351.221(b)(4)(i), we calculated individual subsidy rates for the mandatory respondents, Armstrong and Lizhong, as well as for the voluntary respondent, Fine Furniture.

For the respondents not selected for individual review, we applied a subsidy rate based on an average of the subsidy rates calculated for those companies selected for individual review (i.e., the mandatory respondents), excluding de minimis rates or rates based entirely on adverse facts available.⁴ Therefore, we assigned to these companies the simple average of the rates calculated for Armstrong and Lizhong. We used a simple average and not a weighted average because weight averaging the rates of the two mandatory respondents risks the disclosure of proprietary information of each company to the other.

⁴ See, e.g., Certain Pasta From Italy: Preliminary Results of the 13th (2008) Countervailing Duty Administrative Review, 75 FR 18806, 18811 (April 13, 2010), unchanged in Certain Pasta from Italy: Final Results of the 13th (2008) Countervailing Duty Administrative Review, 75 FR 37386 (June 29, 2010).

We find the net subsidy rate for the producers/exporters under review to be as follows:

Producer/exporter | Net subsidy rate
Armstrong Wood Products (Kunshan) Co., Ltd (also known as, “Armstrong Wood Products Kunshan Co., Ltd”) | 0.98
The Lizhong Wood Industry Limited Company of Shanghai (also known as, “Shanghai Lizhong Wood Products Co., Ltd”); Linyi Youyou Wood Co., Ltd | 0.67
Fine Furniture (Shanghai) Limited; Great Wood (Tonghua) Limited; FF Plantation (Shishou) Limited | 1.21
A&W (Shanghai) Woods Co., Ltd | 0.83
Baishan Huafeng Wood Product Co., Ltd | 0.83
Baiying Furniture Manufacturer Co., Ltd | 0.83
Baroque Timber Industries (Zhongshan) Co., Ltd | 0.83
Changbai Mountain Development and Protection Zone Hongtu Wood Industry Co., Ltd | 0.83
Chinafloors Timber (China) Co., Ltd | 0.83
Dalian Dajen Wood Co., Ltd | 0.83
Dalian Huilong Wooden Products Co., Ltd | 0.83
Dalian Jiuyuan Wood Industry Co., Ltd | 0.83
Dalian Kemian Wood Industry Co., Ltd | 0.83
Dalian Penghong Floor Products Co., Ltd | 0.83
Dazhuang Floor Co. (dba Dasso Industrial Group Co., Ltd) | 0.83
Dongtai Fuan Universal Dynamics LLC | 0.83
Dunhua City Hongyuan Wood Industry Co., Ltd | 0.83
Dunhua City Wanrong Wood Industry Co., Ltd | 0.83
Dunhua Dexin Wood Industry Co., Ltd | 0.83
Dunhua Jisheng Wood Industry Co., Ltd | 0.83
Dun Hua City Jisen Wood Industry Co., Ltd | 0.83
Dun Hua Sen Tai Wood Co., Ltd, | 0.83
Fu Lik Timber (HK) Co., Ltd | 0.83
Fusong Jinlong Wooden Group Co., Ltd | 0.83
Fusong Qianqiu Wooden Group Co., Ltd | 0.83
Fusong Qianqiu Wooden Product Co., Ltd | 0.83
GTP International | 0.83
Guangdong Fu Lin Timber Technology Limited | 0.83
Guangdong Yihua Timber Industry Co., Ltd | 0.83
Guangzhou Jiasheng Timber Industry Co., Ltd | 0.83
Guangzhou Panyu Kangda Board Co., Ltd | 0.83
Guangzhou Panyu Southern Star Co., Ltd | 0.83
Guanghzhou Panyu Shatou Trading Co. Ltd | 0.83
HaiLin LinJing Wooden Products, Ltd | 0.83
Hunchun Forest Wolf Wooden Industry Co., Ltd | 0.83
Huzhou Chenghang Wood Co., Ltd | 0.83
Huzhou Fuma Wood Bus. Co., Ltd | 0.83
Huzhou Fulinmen Imp. & Exp. Co., Ltd | 0.83
Huzhou Jesonwood Co., Ltd | 0.83
Huzhou Sunergy World Trade Co., Ltd | 0.83
Jianfeng Wood (Suzhou) Co., Ltd | 0.83
Jiangsu Senmao Bamboo, Wood Industry Co., Ltd | 0.83
Jiangsu Simba Flooring Co., Ltd | 0.83
Jiazing Brilliant Import & Export Co., Ltd | 0.83
Jilin Forest Industry Jinqiao Flooring Group Co., Ltd | 0.83
Jilin Xinyuan Wooden Industry Co., Ltd | 0.83
Karly Wood Product Limited | 0.83
Kemian Wood Industry (Kunshan) Co., Ltd | 0.83
Kunming Alston (AST) Wood Products Co., Ltd | 0.83
Kushan Yingyi-Nature Wood Industry Co., Ltd | 0.83
Metropolitan Hardwood Floors, Inc. | 0.83
MuDanJiang Bosen Wood Industry Co., Ltd | 0.83
Nakahiro Jyou Sei Furniture (Dalian) Co., Ltd | 0.83
Nanjing Minglin Wooden Industry Co., Ltd | 0.83
Power Dekor Group Co., Ltd | 0.83
Puli Trading Co., Ltd | 0.83
Riverside Plywood Corporation | 0.83
Samling Elegant Living Trading (Labuan) Limited | 0.83
Samling Global USA, Inc. | 0.83
Samling Riverside Co., Ltd | 0.83
Sennorwell International Group (Hong Kong) Limited | 0.83
Shanghai Demeijia Wooden Co., Ltd | 0.83
Shanghai Eswell Timber Co., Ltd | 0.83
Shanghai Lairunde Wood Co., Ltd | 0.83
Shanghai New Sihi Wood Co., Ltd | 0.83
Shanghai Shenlin Corp. | 0.83
Shenyang Haobainian Wood Co. | 0.83
Shenyang Sende Wood Co., Ltd | 0.83
Shenzhenshi Huanwei Woods Co., Ltd | 0.83
Suzhou Anxin Weiguang Timber Co., Ltd | 0.83
Suzhou Dongda Wood Co., Ltd | 0.83
Suzhou Times Flooring Co., Ltd | 0.83
Vicwood Industry (Suzhou) Co. Ltd | 0.83
Xiamen Yung De Ornament Co., Ltd | 0.83
Xinyuan Wooden Industry Co., Ltd | 0.83
Xuzhou Shenghe Wood Co., Ltd | 0.83
Yekalon Industry, Inc. | 0.83
Yixing Lion-King Timber Industry Co., Ltd | 0.83
Zhejiang AnJi XinFeng Bamboo & Wood Co., Ltd | 0.83
Zhejiang Biyork Wood Co., Ltd | 0.83
Zhejiang Dadongwu GreenHome Wood Co., Ltd | 0.83
Zhejiang Desheng Wood Industry Co., Ltd | 0.83
Zhejiang Fudeli Timber Indutry Co., Ltd | 0.83
Zhejiang Haoyun Wood Co., Ltd | 0.83
Zhejiang Jeson Wood Co., Ltd | 0.83
Zhejiang Jiechen Wood Industry Co., Ltd | 0.83
Zhejiang Longsen Lumbering Co., Ltd | 0.83
Zhejiang Shiyou Timber Co., Ltd | 0.83
Zhejiang Tianzhen Bamboo & Wood Development Co., Ltd | 0.83

Assessment Rates

Upon issuance of these final results, the U.S. Customs and Border Protection (CBP) shall assess countervailing duties on all appropriate entries covered by this review. We intend to issue instructions to CBP 15 days after publication of these final results.

Cash Deposit Requirements

In accordance with section 751(a)(1) of the Act, the Department intends to instruct CBP to collect cash deposits of estimated countervailing duties in the amounts shown above on shipments of subject merchandise entered, or withdrawn from warehouse, for consumption on or after the date of publication of the final results of this review. For all non-reviewed companies, we will instruct CBP to continue to collect cash deposits at the most recent company-specific or country-wide rate applicable to the company. Accordingly, the cash deposit rates that will be applied to companies covered by the Amended Order, but not examined in this review, are those established in the most recently completed segment of the proceeding for each company. These cash deposit requirements, when imposed, shall remain in effect until further notice.

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

This administrative review and notice are in accordance with sections 751(a)(1) and 777(i) of the Act and 19 CFR 351.213.

Dated: July 28, 2014.
Paul Piquado,
Assistant Secretary for Enforcement and Compliance.

Appendix—List of Topics Discussed in the Decision Memorandum

1. Summary

2. Background

3. Scope of the Order

4. Partial Rescission of Administrative Review

5. Subsidy Valuation Information

6. Analysis of Programs

7. Analysis of Comments

Comment 1: Application of CVDs to Imports From NME Countries

Comment 2: Simultaneous Application of CVD and AD NME Measures

Comment 3: Countervailability of the Provision of Electricity for LTAR Program

Comment 4: Selection of Benchmarks for the Electricity for LTAR Program

Comment 5: Whether the Department Should Adjust Calculated Benefits and Apportion Those Benefits to the POR

Comment 6: Correcting Typographical Errors in Non-Selected Company Names

8. Recommendation

[FR Doc. 2014-18339 Filed 8-1-14; 8:45 am]

BILLING CODE 3510-DS-P